DEPARTMENT OF TRANSPORTATION

Federal Aviation Administration

14 CFR Part 39

[Docket No. FAA-2008-1205; Directorate Identifier 2008-CE-062-AD]

RIN 2120-AA64

Airworthiness Directives; Cessna Aircraft Company Models 182Q and 182R Airplanes

AGENCY: Federal Aviation Administration (FAA), Department of Transportation (DOT).

ACTION: Notice of proposed rulemaking (NPRM).

SUMMARY: We propose to adopt a new airworthiness directive (AD) for certain Cessna Aircraft Company (Cessna) Models 182Q and 182R airplanes that are equipped with Societé de Motorisations Aéronautiques (SMA) Aircraft Diesel Engine (ADE) Model SR305-230-1 or Model SR305-230 converted to Model SR305-230-1 installed under Supplemental Type Certificate (STC) SA03302AT. This proposed AD would require you to remove the intercooler and the intercooler inlet and outlet hoses, install a reworked intercooler and new intercooler inlet and outlet hoses, inspect hoses and clamp torques, and repetitively inspect installation of the intercooler outlet and inlet hose assemblies for any displacement or damage of clamps or hoses, and, if necessary, replace any damaged clamps or hoses. This proposed AD results from a report of two instances of induction hose disconnection occurring while in service, resulting in a loss of turbo boost and a significant loss of engine power. We are proposing this AD to detect and correct improper intercooler outlet and intercooler inlet hose assembly installations, which could result in loss of turbo boost and a significant loss of engine power. This failure could lead to an inability to maintain constant altitude in flight.

DATES: We must receive comments on this proposed AD by January 12, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact SMA Customer Service, 10-12 Rue Didier Daurat, 18021 Bourges, France; telephone: +33 (0) 2 48 67 56 00; fax: +33 (0) 2 48 50 01 41; E-mail: customer_services@smasr.com; Web: http://www.smaengines.com.

FOR FURTHER INFORMATION CONTACT: Don O. Young, Aerospace Engineer, ACE-118A, Atlanta Aircraft Certification Office, One Crown Center, 1895 Phoenix Blvd., Suite 450, Atlanta, Georgia 30349; telephone: (770) 703-6079; fax: (770) 703-6097.

SUPPLEMENTARY INFORMATION:

Comments Invited

We invite you to send any written relevant data, views, or arguments regarding this proposed AD. Send your comments to an address listed under the ADDRESSES section. Include the docket number, “FAA-2008-1205; Directorate Identifier 2008-CE-062-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received a report of two instances of induction hose disconnection (due to incorrectly installed clamps securing the intercooler outlet and intercooler inlet hose assemblies) occurring while in service on the air inlet manifold circuit of Cessna Models 182Q and 182R airplanes equipped with SMA ADE Model SR305-230-1 or Model SR305-230 converted to Model SR305-230-1 installed under STC SA03302AT. This induction hose disconnection resulted in a loss of turbo boost and a significant loss of engine power.

SMA reports that these hoses and clamps are included in STC SA03302AT.

This condition, if not corrected, could result in loss of turbo boost and a significant loss of engine power. This failure could lead to an inability to maintain constant altitude in flight.

Relevant Service Information

We have reviewed the following service information SMA SAFRAN Group Service Bulletin SB-C182-75-004, Revision No. Basic Issue, dated July 8, 2008.

The service information describes procedures for:

• Removal of intercooler SF01170004-0;

• Installation of reworked intercooler SF01170004-1;

• Removal of intercooler and turbocharger inlet and outlet hoses;

• Installation of new intercooler inlet hose SF01170083-0 and intercooler outlet hose SF01170048-0; and

• Inspection procedures for installation of the intercooler hose assemblies.

FAA's Determination and Requirements of the Proposed AD

We are proposing this AD because we evaluated all information and determined the unsafe condition described previously is likely to exist or develop on other products of the same type design. This proposed AD would require you to remove the intercooler and the intercooler inlet and outlet hoses, install a reworked intercooler and new intercooler inlet and outlet hoses, inspect hoses and clamp torques, and repetitively inspect installation of the intercooler outlet and inlet hose assemblies for any displacement or damage of clamps or hoses, and, if necessary, replace any damaged clamps or hoses.

Costs of Compliance

We estimate that this proposed AD would affect 7 airplanes in the U.S. registry.

We estimate the following costs to do the proposed replacements:

Labor cost | Parts cost | Total cost per airplane | Total cost on U.S. operators
4 work-hours × $80 per hour = $320 | $3,436 | $3,756 | $26,292

We estimate the following costs to do any proposed inspection of the installation of the intercooler hose assembly that would be required:

Labor cost | Parts cost | Total cost per airplane
2 work-hours × $80 per hour = $160 | Not Applicable | $160

We have no way of determining the cost of any necessary replacement that may be required as a result of any proposed inspection.

SMA will provide warranty credit as stated in SMA SAFRAN Group Service Bulletin SB-C182-75-004, Revision No. Basic Issue, dated July 8, 2008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2008-1205; Directorate Identifier 2008-CE-062-AD.

Comments Due Date

(a) We must receive comments on this airworthiness directive (AD) action by January 12, 2009.

Affected ADs

(b) None.

Applicability

(c) This AD applies to Models 182Q and 182R airplanes, all serial numbers, certificated in any category, that are equipped with:

(1) Societé de Motorisations Aéronautiques (SMA) aircraft diesel engine (ADE) Model SR305-230-1 installed under Supplemental Type Certificate (STC) SA03302AT; or

(2) SMA ADE Model SR305-230 converted to Model SR305-230-1 (by incorporation of SMA Service Bulletin SB-01-76-002) installed under STC SA03302AT.

Unsafe Condition

(d) This AD results from a report of two instances of induction hose disconnection occurring while in service on the air inlet manifold circuit, resulting in a loss of turbo boost and a significant loss of engine power. We are issuing this AD to detect and correct improper intercooler hose assembly installation, which could result in loss of turbo boost and a significant loss of engine power. This failure could lead to an inability to maintain constant altitude in flight.

Compliance

(e) To address this problem, you must do the following, unless already done:

Actions | Compliance | Procedures
(1) Remove part number (P/N) intercooler SF01170004-0 and install reworked intercooler SF01170004-1 and remove intercooler inlet and outlet hoses and install new intercooler inlet hose SF01170083-0 and intercooler outlet hose SF01170048-0 | Before further flight as of the effective date of this AD | Follow SMA SAFRAN Group Service Bulletin SB-C182-75-004, Revision No. Basic Issue, dated July 8, 2008.
(2) Inspect intercooler inlet and outlet hoses and clamps for displacement and re-torque clamps. If you find any displacement do the displacement recovery | Within the next 25 hours time-in-service (TIS) following installation required by paragraph (e)(1) of this AD | Follow SMA SAFRAN Group Service Bulletin SB-C182-75-004, Revision No. Basic Issue, dated July 8, 2008.
(3) Inspect the installation of the intercooler outlet hose and intercooler inlet hose assembly for any displacement or damage of clamps or hoses | Initially inspect within the next 100 hours TIS after the action required by paragraph (e)(1) of this AD or within the next 12 months after the action required by paragraph (e)(1) of this AD, whichever occurs first. Repetitively thereafter inspect at intervals not to exceed 100 hours TIS or 12 months, whichever occurs first | Follow SMA SAFRAN Group Service Bulletin SB-C182-75-004, Revision No. Basic Issue, dated July 8, 2008.
(4) If, as a result of any inspection required by paragraph (e)(3) of this AD, you find any displacement or damage of clamps or hoses, replace any damaged clamps and hoses | Before further flight, after the inspection required by paragraph (e)(3) of this AD where you found any displacement or damage of clamps or hoses | Follow SMA SAFRAN Group Service Bulletin SB-C182-75-004, Revision No. Basic Issue, dated July 8, 2008.
(5) Do not install any intercooler SF01170004-0 | As of the effective date of this AD | Not Applicable.

Special Flight Permit

(f) Under 14 CFR part 39.23, we are limiting the special flight permits for this AD by the following conditions:

(1) Before flight, an inspection of hoses and clamps by a properly certificated mechanic reveals no damaged or disconnected hoses or clamps; and

(2) You fly by the most direct route to the site where the AD can be performed.

Alternative Methods of Compliance (AMOCs)

(g) The Manager, Atlanta Aircraft Certification Office (ACO), FAA, has the authority to approve AMOCs for this AD, if requested using the procedures found in 14 CFR 39.19. Send information to Attn: Don O. Young, Aerospace Engineer, ACE-118A, Atlanta ACO, One Crown Center, 1895 Phoenix Blvd., Suite 450, Atlanta, Georgia 30349; telephone: (770) 703-6079; fax: (770) 703-6097. Before using any approved AMOC on any airplane to which the AMOC applies, notify your appropriate principal inspector (PI) in the FAA Flight Standards District Office (FSDO), or lacking a PI, your local FSDO.

Related Information

(h) To get copies of the service information referenced in this AD, contact SMA Customer Service, 10-12 Rue Didier Daurat, 18021 Bourges, France; telephone: +33 (0) 2 48 67 56 00; fax: +33 (0) 2 48 50 01 41; E-mail: customer_services@smasr.com; Web: http://www.smaengines.com. To view the AD docket, go to U.S. Department of Transportation, Docket Operations, M-30, West Building Ground Floor, Room W12-140, 1200 New Jersey Avenue, SE., Washington, DC 20590, or on the Internet at http://www.regulations.gov.

Issued in Kansas City, Missouri, on November 6, 2008.
James E. Jackson,
Acting Manager, Small Airplane Directorate, Aircraft Certification Service.

[FR Doc. E8-26910 Filed 11-12-08; 8:45 am]

BILLING CODE 4910-13-P